DEPARTMENT OF TRANSPORTATION

Research and Special Programs Administration

49 CFR Part 192

[Docket No. RSPA-00-7666; Amendment 192-91]

RIN 2137-AD64

Pipeline Safety: High Consequence Areas for Gas Transmission Pipelines

AGENCY: Office of Pipeline Safety (OPS), Research and Special Programs Administration (RSPA), DOT.

ACTION: Final rule; correction.

SUMMARY: This document corrects the amendment number cited in the caption of the final rule published in the Federal Register on August 6, 2002 (67 FR 50824). The amendment number cited in the caption of this final rule was “Amendment 192-77.” The correct amendment number is “Amendment 192-91.” This correction does not affect the substance or content of the rule.

DATES: Effective Date: The effective date for this correction is April 23, 2004.

FOR FURTHER INFORMATION CONTACT: Richard Huriaux by phone at (202) 366-4565, by fax at (202) 366-4566, or by e-mail at richard.huriaux@rspa.dot.gov, regarding the subject matter of this correction.

SUPPLEMENTARY INFORMATION: Amendment numbers are used by RSPA/OPS to track the changes made to the pipeline safety rules in 49 CFR Parts 190-199. An incorrect amendment number is confusing to pipeline companies and federal and state pipeline inspectors who closely follow pipeline regulatory developments. This correction does not affect the substance or content of the rule.

Issued in Washington, DC, on April 16, 2004.
Samuel G. Bonasso,
Deputy Administrator.

[FR Doc. 04-9200 Filed 4-22-04; 8:45 am]

BILLING CODE 4910-60-P